SECURITIES AND EXCHANGE COMMISSION

[Release No. 34-52651; File No. SR-SCCP-2004-03]

Self-Regulatory Organizations; Stock Clearing Corporation of Philadelphia; Order Granting Approval of a Proposed Rule Change Relating to Anonymous Features on Trading Systems

October 21, 2005.

I. Introduction

On August 5, 2004, the Stock Clearing Corporation of Philadelphia (“SCCP”) filed with the Securities and Exchange Commission (“Commission”) proposed rule change SR-SCCP-2004-03 pursuant to Section 19(b)(1) of the Securities Exchange Act of 1934 (“Act”).¹ On September 7, 2004, SCCP amended the proposed rule change. Notice of the proposal was published in the Federal Register on August 10, 2005.² No comment letters were received. For the reasons discussed below, the Commission is granting approval of the proposed rule change with the conditions set forth below.

¹ 15 U.S.C. 78s(b)(1).

² Securities Exchange Act Release No. 52201 (August 3, 2005), 70 FR 46565.

II. Description

The rule change allows SCCP to process trades executed on a trading system that provides for anonymous trading.³ Pursuant to the rule change, SCCP will be able in the future to receive locked-in trade data from a trading system that provides anonymity. In such a situation, SCCP would report such trades to its members using an anonymous acronym instead of naming or identifying the actual contraside.

³ SCCP's rule change is similar to a rule change approved by the Commission in 2003 that allowed the National Securities Clearing Corporation (“NSCC”) to accommodate the reporting of trades executed on a system that provides trading anonymity. Securities Exchange Act Release No. 48526 (September 23, 2003), 68 FR 56367 (September 30, 2003) [File No. SR-NSCC-2003-14].

In the event that SCCP ceases to act for a member involved in anonymous trading, the operator of the trading system shall have the responsibility to identify to its users the trades, which are generally included in reports produced by SCCP, involving the affected member. SCCP would forward to the operator of the trading system the appropriate information to facilitate its notification of its users. In addition, should SCCP receive information from NSCC that NSCC had ceased to act for an NSCC member that was an unidentified contraside of any such trade, SCCP would also forward this information to the operator of the trading system.⁴

⁴ NSCC's anonymous trading procedure includes similar notification requirements.

III. Discussion

Section 17A(b)(3)(F) of the Act provides that the rules of a clearing agency should be designed to promote the prompt and accurate clearance and settlement of securities transactions.⁵ To benefit from the advantages of an anonymous trading system, parties to anonymous trades need to keep their identities anonymous in any reports provided to counterparties as part of the clearance and settlement of the trades. By allowing SCCP to use an acronym in place of the name or identity of contrasides of anonymous trades in the trade reports it provides to its members, the proposed rule change allows the parties to anonymous trades to preserve their anonymity and thus to preserve the benefits associated with executing anonymous trades. Accordingly, the proposed rule change is designed to promote the prompt and accurate clearance and settlement of securities transactions conducted on anonymous trading systems by allowing such trades to be cleared and settled through SCCP and therefore receive the benefits and efficiencies SCCP offers as a registered clearing agency.

⁵ 15 U.S.C. 78q-1(a)(A)(B).

As a condition of this approval, SCCP will notify the Commission in writing before it begins processing trades executed on each anonymous trading system. Such notification shall include such information as the name of the anonymous trading system, the operator and/or owner of the anonymous trading system, the proposed processing start date, and any other relevant information requested by the Commission.

IV. Conclusion

On the basis of the foregoing, the Commission finds that the proposed rule change is consistent with the requirements of the Act and in particular Section 17A of the Act and the rules and regulations thereunder.

It is therefore ordered, pursuant to Section 19(b)(2) of the Act, that the proposed rule change (File No. SR-SCCP-2004-03) be and hereby is approved.

⁶ 17 CFR 200.30-3(a)(12).

For the Commission by the Division of Market Regulation, pursuant to delegated authority.⁶
Jonathan G. Katz,
Secretary.

[FR Doc. E5-6016 Filed 10-31-05; 8:45 am]

BILLING CODE 8010-01-P